DEPARTMENT OF DEFENSE

Office of the Secretary

Notice of Federal Advisory Committee Meeting

AGENCY: Department of Defense.

ACTION: Notice.

SUMMARY: Under the provisions of the Federal Advisory Committee Act of 1972 (5 U.S.C., Appendix, as amended), the Government in the Sunshine Act of 1976 (5 U.S.C. 552b, as amended), and 41 CFR 102-3.150, the Department of Defense announces that the following Federal Advisory Committee meeting of the Department of Defense Task Force on the Care, Management, and Transition of Recovering Wounded, Ill, and Injured Members of the Armed Forces (subsequently referred to as the Task Force) will take place.

DATES: Tuesday, February 22, 2011 and Wednesday, February 23, 2011 from 8 p.m.-5 p.m.

ADDRESSES: Embassy Suites DC Convention Center, 900 10th Street, NW., Washington, DC 20001.

FOR FURTHER CONTACT INFORMATION: Mail Delivery service through Recovering Warrior Task Force, Hoffman Building II, 200 Stovall St., Alexandria, VA 22332-0021 “Mark as Time Sensitive for February Meeting”. E-mails to taskforce.recoveringwarrior@wso.whs.mil. Telephone (703) 325-6640. Fax (703) 325-6710.

SUPPLEMENTARY INFORMATION: Purpose of the Meeting: The purpose of the meeting is for the Task Force Members to convene and receive briefings on the Army Warrior Transition Command and Air Force Warrior and Survivor Care Programs.

Agenda: (Please refer to http://dtf.defense.gov/rwtf/meetings.html for the most up-to-date meeting information).

8 a.m.-5 p.m. Tuesday 22 February 2011

8 Opening and Introductions

8:30 Army Measures of Effectiveness and Systems of Performance and Accountability: NonMedical Case Management

10:15 Break

10:30 Army Support to Caregivers

11:30 Break

11:45 Army Measures of Effectiveness and Systems of Accountability: Army Medical Case Management

1:00 Break

1:15 Army Services for TBI and PTSD

2:15 Break

2:30 Army Programs for Transition Assistance

3:15 Break

3:30 Army Support Systems Disability Evaluation System

4:30-5 Close

8 a.m.-5 p.m. Wednesday 23 February 2011

8 Welcome and Opening Remarks

9 Public Forum

9:15 Air Force Measures of Effectiveness and Systems of Performance and Accountability for Non-Medical Case Management

10:30 Break

10:45 Air Force Measures of Effectiveness and Systems of Accountability: Medical Care Case Management

11:45 Break

1:00 Air Force Medical Services for TBI and PTSD

1:15 Air Force Programs for Transition Assistance

1:30 Break

1:45 Review of Focus Group Questions and Instruments

2:45 Focus Group Training

5 Close

Public's Accessibility to the Meeting: Pursuant to 5 U.S.C. 552b and 41 CFR 102-3.140 through 102-3.165, and the availability of space, this meeting is open to the public. Seating is on a first-come basis.

Point of Contact: Denise F. Dailey, Designated Federal Officer, (703) 325-6640, Hoffman Building II, 200 Stovall St., Alexandria, VA 22332-0021, taskforce.recoveringwarrior@wso.whs.mil.

Written Statements: Pursuant to 41 CFR 102-3.105(j) and 102-3.140, and section 10(a)(3) of the Federal Advisory Committee Act of 1972, the public or interested organizations may submit written statements to the Department of Defense Task Force on the Care, Management, and Transition of Recovering Wounded, Ill, and Injured Members of the Armed Forces about its mission and functions. Written statements may be submitted at any time or in response to the stated agenda of a planned meeting of the Department of Defense Task Force on the Care, Management, and Transition of Recovering Wounded, Ill, and Injured Members of the Armed Forces.

All written statements shall be submitted to the Designated Federal Officer for the Task Force through the above contact information, and this individual will ensure that the written statements are provided to the membership for their consideration.

Statements being submitted in response to the agenda mentioned in this notice must be received by the Designated Federal Officer at the address listed NLT 5 p.m. EST, Monday, February 14, 2011 which is the subject of this notice. Written statements received after this date may not be provided to or considered by the Task Force until its next meeting. Please mark mail correspondence as “Time Sensitive for February Meeting.”

The Designated Federal Officer will review all timely submissions with the Task Force Co-Chairs and ensure they are provided to all members of the Task Force before the meeting that is the subject of this notice.

Oral Statements: If individuals are interested in making an oral statement during the Public Forum time period, a written statement for a presentation of two minutes must be submitted as above and must identify it is being submitted for an oral presentation by the person making the submission. Identification information must be provided and at a minimum must include a name and a phone number. Determination of who will be making an oral presentation will depend on the submitted topic's relevance to the Task Force's Charter. Individuals may visit the Task Force Web site at http://dtf.defense.gov/rwtf/ to view the Charter. Individuals making presentations will be notified by Friday, February 18, 2011. Oral presentations will be permitted only on Wednesday February 23, 2011 from 9 a.m. to 9:15 a.m. before the full Task Force. Number of oral presentations will not exceed five, with one minute of questions available to the Task Force members per presenter. Presenters should not exceed their two minutes.

Reasonable accommodations will be made for those individuals with disabilities who request them. Requests for additional services should be directed to Joseph Jordon, (703) 325-6640, by 5 p.m. EST, Monday, February 14, 2011.

Dated: January 25, 2011.
Morgan F. Park,
Alternate OSD Federal Register Liaison Officer, Department of Defense.

[FR Doc. 2011-1947 Filed 1-28-11; 8:45 am]

BILLING CODE 5001-06-P